DEPARTMENT OF HEALTH AND HUMAN SERVICES

Centers for Medicare and Medicaid Services

[Document Identifier: CMS-10083]

Emergency Clearance: Public Information Collection Requirements Submitted to the Office of Management and Budget (OMB)

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with the Trade Act of 2002. We cannot reasonably comply with the normal clearance procedures because President of an unanticipated event and public harm.

We are requesting emergency clearance of a pilot study designed to elicit information from discharged patients concerning their hospital/acute care experience. Given the current momentum, enthusiasm and support expressed by hospitals and the hospital associations for public reporting of hospital quality information, it is important to provide the tools needed for reliable and valid data collection as soon as possible. CMS would like to take advantage of the opportunity of testing the H-CAHPS instrument in the Hospital State Pilots that has just started. It is important to provide hospitals a standard tool and data collection methodology by July/August 2003 to support this joint initiative. We are interested in receiving comments on the pilot during the course of the pilot, as well as during the comment period mentioned below. However, those received after the close of the comment period will not be included in the materials that OMB reviews in determining whether to approve the collection.

CMS is requesting OMB review and approval of this collection by February 21, 2003, with a 180-day approval period. Written comments and recommendations will be accepted from the public if received by the individuals designated below by February 20, 2003. During this 180-day period, we will publish a separate Federal Register notice announcing the initiation of an extensive 60-day agency review and public comment period on these requirements. We will submit the requirements for OMB review and an extension of this emergency approval.

Type of Information Collection Request: New collection; Title of Information Collection: Pilot Test of Hospital CAHPS Survey; Form No.: CMS-10083 (OMB #0938-XXXX); Use: CMS has requested a hospital survey as a way of providing comparison information for consumers who need to select a hospital and as a way of encouraging accountability of hospitals for the care they provide. With a standardized instrument consumers will be able to make “apples to apples” comparisons among hospitals, allow hospitals and hospital chains to self compare, and provide state oversight officials with useful data. A standardized instrument, developed under the CAHPS umbrella, will produce a reliable and valid instrument that any organization can use at no cost to obtain patient data about hospital experiences. This tool will be adopted by the National Hospital Voluntary Initiative; Frequency: Once; Affected Public: Individuals or households; Number of Respondents: 16,500; Total Annual Responses: 16,500; Total Annual Hours: 5,500.

We have submitted a copy of this notice to OMB for its review of these information collections. A notice will be published in the Federal Register when approval is obtained.

To obtain copies of the supporting statement and any related forms for the proposed paperwork collections referenced above, access CMS' Web Site address at http://cms.hhs.gov/regulations/pra/default.asp or E-mail your request, including your address, phone number, OMB number, and CMS document identifier, to Paperwork@hcfa.gov, or call the Reports Clearance Office on (410) 786-1326.

Interested persons are invited to send comments regarding the burden or any other aspect of these collections of information requirements. However, as noted above, in order to be considered in the OMB approval process, comments on these information collection and recordkeeping requirements must be mailed and/or faxed to the designees referenced below, by February 20, 2003.

Centers for Medicare and Medicaid Services, Office of Strategic Operations and Regulatory Affairs, Division of Regulations Development and Issuances, Attn: Reports Clearance Officer, Room C5-16-03, 7500 Security Boulevard, Baltimore, MD 21244-1850. Fax Number: (410) 786-3064. Attn: Julie Brown; and

Office of Information and Regulatory Affairs, Office of Management and Budget, Room 10235, New Executive Office Building, Washington, DC 20503, Fax Number: (202) 395-6974 or (202) 395-5167, Attn: Brenda Aguilar, CMS Desk Officer.

Dated: January 30, 2003.
John P. Burke, III,
CMS Reports Clearance Officer, CMS, Office of Information Services, Security and Standards Group, Division of CMS Enterprise Standards.

[FR Doc. 03-2788 Filed 2-4-03; 8:45 am]

BILLING CODE 4120-03-P